SECURITIES AND EXCHANGE COMMISSION

Sunshine Act Meetings

TIME AND DATE: Notice is hereby given, pursuant to the provisions of the Government in Sunshine Act, Public Law 94-409, that the Securities and Exchange Commission Investor Advisory Committee will hold a telephonic meeting on Thursday, September 5, 2019.

PLACE: The meeting will be open to the public via telephone at 1-800-260-0719 in the United States or (651) 291-1170 outside the United States, participant code 470756.

STATUS: This meeting will begin at 11:00 a.m. (ET) and conclude at 12:30 p.m. and will be open to the public via telephone. The meeting will be webcast by audio-only on the Commission's website at www.sec.gov.

MATTERS TO BE CONSIDERED: On August 12, 2019, the Commission issued notice of the Committee meeting (Release No. 33-10670), indicating that the meeting is open to the public via telephone, and inviting the public to submit written comments to the Committee. This Sunshine Act notice is being issued because a quorum of the Commission may attend the meeting.

The agenda for the meeting includes: Welcome remarks; a discussion regarding the proxy process (including a recommendation from the Investor as Owner Subcommittee).

CONTACT PERSON FOR MORE INFORMATION: For further information and to ascertain what, if any, matters have been added, deleted or postponed; please contact Vanessa A. Countryman from the Office of the Secretary at (202) 551-5400.

Dated: August 26, 2019.
Vanessa A. Countryman,
Secretary.

[FR Doc. 2019-18719 Filed 8-26-19; 4:15 pm]

BILLING CODE 8011-01-P